FEDERAL COMMUNICATIONS COMMISSION

47 CFR Part 4

[PSHSB: PS Docket Nos. 21-346 and 15-80; ET Docket No. 04-35; FCC 24-5 FR ID 212327]

Resilient Networks; Disruptions to Communications

AGENCY: Federal Communications Commission.

ACTION: Final rule.

SUMMARY: In this document, the Federal Communications Commission (FCC) adopts the Second Report and Order (Order) to advance the lines of inquiry particularly concerning the Network Outage Reporting System (NORS) and the Disaster Information Reporting System (DIRS).

DATES:

Effective date: This rule is effective April 11, 2024.

Compliance date: Compliance with 47 CFR 4.18 will not be required until the FCC has published a document in the Federal Register announcing the compliance date.

FOR FURTHER INFORMATION CONTACT: For additional information on this proceeding, contact Logan Bennett, Attorney Advisor, Cybersecurity and Communications Reliability Division, Public Safety and Homeland Security Bureau, (202) 418-7790 or via email at Logan.Bennett@fcc.gov. For additional information concerning the Paperwork Reduction Act information collection requirements contained in this document, send an email to PRA@fcc.gov or contact Nicole Ongele, Office of Managing Director Performance Evaluation and Records Management, 202-418-2991, or by email to PRA@fcc.gov.

SUPPLEMENTARY INFORMATION: This is a summary of the Commission's Second Report and Order (Order), in PS Docket Nos. 21-346 and 15-80; ET Docket No. 04-35; FCC 24-5, adopted on January 25, 2024, and released on January 26, 2024. The full text of this document is available by downloading the text from the Commission's website at https://docs.fcc.gov/public/attachments/FCC-24-5A1.pdf. To request this document in accessible formats for people with disabilities (e.g., Brialle, large print, electronic files, audio format, etc.) or to request reasonable accommodations, (e.g., accessible format documents, sign language interpreters, CART, etc.), send an email to FCC504@fcc.gov or call the FCC's Consumer and Government Affairs Bureau at (202) 418-0530 (voice), (202) 418-0432 (TTY). When the FCC Headquarters reopens to the public, the full text of this document will also be available for public inspection and copying during regular business hours in the FCC Reference Center, 45 L Street NE, Washington, DC 20554.

Congressional Review Act: The Commission has determined, and the Administrator of the Office of Information and Regulatory Affairs, OMB, concurs, that this rule is non-major under the Congressional Review Act, 5 U.S.C. 804(2). The Commission will send a copy of the Order to Congress and the Government Accountability Office pursuant to 5 U.S.C. 801(a)(1)(A).

Paperwork Reduction Act: This document contains additional information collection requirements subject to the Paperwork Reduction Act of 1995 (PRA), Public Law 104-13. It will be submitted to the Office of Management and Budget (OMB) for review under Section 3507(d) of the PRA. OMB, the general public, and other Federal agencies will be invited to comment on the new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees. (See FCC, Resilient Networks Second Report and Order and Second Further Notice of Proposed Rulemaking, https://docs.fcc.gov/public/attachments/FCC-24-5A1.pdf (Jan. 26, 2024) at 38, para. 86 and at 42, Appdx. B.)

Synopsis

The Commission initially adopted the DIRS system as a disaster response information tool in 2007, but we have not revisited the voluntary nature of the system in almost two decades even as the disaster and emergency landscape continues to change and technology continues to advance. By way of example, since DIRS was adopted on a voluntary basis, the Commission has adopted rules pursuant to the Warning, Alert and Response Network (WARN) Act to implement Wireless Emergency Alerts (WEAs), creating a valuable tool used by emergency response officials to leverage mobile communications networks to provide timely alerts to consumers in disaster situations.

As such, while a voluntary system like DIRS is beneficial, we believe in the current regulatory, technological and interconnected network environment it cannot work to its fullest potential unless we expand the aperture of who reports in the system, and enhance the fidelity of the data to allow for more effective decision making in response to disaster environments by requiring filings be made in emergency contexts. As the Commission evaluates the best approaches to support better outcomes for consumers in these challenging situations in the Second Further Notice of Proposed Rulemaking (Second FNPRM) (89 FR 22106, March 29, 2024), input from industry, public safety, public interest groups, as well as individuals who deal directly with these issues, will play a crucial role in determining how to effectively streamline disaster reporting while addressing individual entities' specific operational challenges.

The 2021 Resilient Networks Notice of Proposed Rulemaking (NPRM) (86 FR 61103, Nov. 5, 2021) sought comment on three distinct topics: (i) enhancements to NORS and DIRS to improve situational awareness around disasters and outage events (which is the subject of the Order); (ii) improving implementation of the industry-developed Wireless Resiliency Cooperative Framework (which was addressed in the 2022 Report and Order (87 FR 59329, Sept. 30, 2022) and Further Notice of Proposed Rulemaking (87 FR 59379, Sept. 30, 2022) with the Mandatory Disaster Response Initiative (MDRI)); and (iii) developing communications resilience strategies for power outages (i.e., backup power). As detailed below, the Order adopts rules to:

• require cable communications, wireline, wireless, and interconnected Voice over internet Protocol (VoIP) providers (i.e., “subject providers”) to report their infrastructure status information in DIRS daily when the Commission activates DIRS in geographic areas in which they provide service, even when their reportable infrastructure status has not changed compared to the prior day The Commission has chosen to focus on cable communications, wireless, wireline, and VoIP providers (i.e., “subject providers”) in the Order. Broadcasters, broadband, satellite, and broadband internet access service (BIAS) providers expressed varying concerns and unique comments compared to those of the subject providers addressed herein which we believe are better addressed in a separate proceeding which will seek more narrow comments pertaining to those providers specifically as is previewed in the Second FNPRM];

• codify, in part 4 of the Commission's outage reporting rules, the current practice that a subject provider's NORS reporting obligations are waived while they report in DIRS [This exemption is codified as a revision to the Commission's part 4 rules stating that NORS reporting requirements do not apply when the Commission requires DIRS reporting. See 47 CFR 4.1 through 4.17]; and

• require that subject providers who report in DIRS provide a single, final DIRS report to the Commission, within 24 hours of the Commission's deactivation of DIRS, that provides the status of their infrastructure identified to the Commission during the DIRS reporting period that has not yet been fully restored at the time of the deactivation.

Second Report and Order

A. Mandating DIRS Reporting for Cable Communications, Wireless, Wireline, and Interconnected VoIP Providers

In the 2021 Resilient Networks NPRM, the Commission proposed requiring cable, wireless, wireline, Direct Broadcast Satellite (DBS), Satellite Digital Audio Radio Service (SDARS), interconnected VoIP providers, and TV and radio broadcasters to report their infrastructure status information in DIRS when the Commission activates DIRS in geographic areas in which they provide service. In this respect, the Commission proposed to shift the reporting obligation from voluntary to mandatory for these providers and expand the categories of providers subject to DIRS reporting. In support of this proposal, the Commission noted that smaller providers often did not elect to voluntarily participate in DIRS reporting, reducing the Commission's situational awareness. The size of the provider a consumer uses should not affect a consumer's right to public safety and potentially life-saving information, nor should small rural communities be less entitled to functioning networks that provide alerts and 911 capability than communities served by large providers. The Commission also sought comment on ways to resolve ambiguity about whether a subject provider's lack of DIRS filings means that its network infrastructure remains fully operational or it is unable to file, and whether it cannot access DIRS due to disruption of its internet access or other exigencies. Based on the record, in the Order, the Commission requires DIRS reporting only as to cable communications wireline, wireless and interconnected VoIP providers, and provides that such reports must be filed on a daily basis until the Commission deactivates DIRS. We note that in some instances, and where warranted based on circumstances during extended activations, the Bureau has required reporting less frequently than daily. While we find daily reporting the best cadence norm, we delegate authority to PSHSB to amend the reporting schedule to a less frequent cadence where warranted. For instance, the Bureau may waive, sua sponte, the daily reporting time. In this regard, we also decline to provide more specificity as to the time daily reporting should occur as requested by NCTA—The internet and Television Association (NCTA), in that DIRS reporting may inform other time-sensitive disaster coordination activities across the Federal Government and that Commission staff must respond to those coordination activities by specifying reporting times in each DIRS activation Public Notice (PN) on a case-by-case basis. On days when a subject provider has no otherwise reportable changes in its infrastructure status, the report would take the form of a simplified “check in” report. In the Second FNPRM, we seek further comment to build a more robust record regarding the inclusion of satellite, broadband, and broadcast providers in a mandatory DIRS environment.

DIRS provides pertinent daily information that the Commission provides to a variety of public safety entities through information sharing, collaborative disaster response efforts, and to the public. The information in DIRS reports also enables the Bureau's Operations and Emergency Management Division (OEM) to manage its disaster response activities, such as visiting sites and validating communications restoration status, supporting vital search and rescue operations, and performing eyes-on assessments of disaster impacts and damages to prioritize and allocate response and recovery resources. At their core, DIRS reports, in combination with operational spectrum surveys and other direct engagement, serve as an impetus for open lines of communication between communications carriers and emergency management officials.

In response to the 2021 Resilient Networks NPRM, several public interest and public safety-focused commenters opine that mandating DIRS reporting would increase the value of the situational awareness information that the Commission collects and will result in meaningful improvements to public safety. For example, Next Century Cities (NCC) remarks that DIRS data from smaller-sized subject providers would allow the Commission to have a more granular look at how infrastructure and service has been disrupted on the ground, which would critically aid disaster response. Public Knowledge notes similarly that, in the current voluntary regime, the value of DIRS information is diminished as it is unclear if a non-reporting subject provider is unable to report due to severe damage or is simply electing not to file DIRS reports. Free Press states that more robust DIRS information will allow customers and impacted individuals to assess all communications options that may be available to them in the immediate aftermath of disaster and during a subsequent rebuilding phase; Public Knowledge further notes that having more DIRS information will allow the Commission to better hold providers accountable for failures.

Conversely, several parties representing industry, like ACA Connects—America's Communications Association (ACA), oppose mandating DIRS on grounds that it would be too burdensome or would only provide a limited benefit when it comes to requiring compliance from small providers. NTCA—The Rural Broadband Association (NTCA) believes that small operators will likely lack the personnel, time, or physical resources to make such reports in the midst of a disaster and states that DIRS reports may not actually be useful in disaster scenarios because the Department of Homeland Security's National Coordinating Center for Communications (DHS-NCC) and the Communications Information Sharing and Analysis Center (Comms-ISAC) provide a forum for industry stakeholders “to share real-time information and collaborate with government partners on network restoration efforts [so] [a]ny new information sharing commitments would likely duplicate, and potentially conflict with, these established, well-defined processes, creating unnecessary burden and undermining rather than strengthening network resiliency.” AT&T argues that, to manage burdens, mandatory reporting should be based on a “best efforts” standard and that there should be no penalty for failure to meet any deadlines established for particular events. NTCA also argues, “it is currently unclear whether filing the [DIRS] reports lead to greater coordination between government and industry or offers a benefit to a company or community in crisis.”

We find that mandatory DIRS reporting will yield substantial public safety benefits. DIRS provides situational awareness of communications operational status and actionable information to public safety entities assisting in disaster response, thus promoting public safety. Additionally, the Commission's information sharing program provides direct read-only access to government agencies, providing a direct benefit to emergency response, and providing complete and accurate information to these sharing partners will provide actionable data to those making decisions in disaster and reliability contexts. DIRS exists “to report communications infrastructure status and situational awareness information during times of crises” and enables “the Commission [to] disseminate DIRS information to other Federal agencies” to “facilitate Federal restoration efforts,” as well as efforts from state, local, Tribal, and territorial governments, and get boots on the ground in the locations requiring urgent assistance. Public Knowledge asserts that “[t]he FCC must require all wireless . . . providers to perform basic measures that reflect the lessons it has gleaned from recent post-disaster reports [as] [i]n these reports, the FCC has outlined straight-forward and obvious procedures that, if performed, would undoubtedly improve disaster responses.” However, in its current voluntary state, DIRS provides the Commission with an incomplete picture of infrastructure status and other important emergency information and cannot reliably be used to determine whether entities are merely not reporting by choice or if they have lost the ability to report and are in need of aid and collaboration. Mandating DIRS reporting provides a more consistent picture of status during and after disasters and emergencies since there is a wider sampling of providers recording how an event has affected their infrastructure and capabilities. Requiring DIRS reporting will identify clearly for the Commission and other emergency response agencies of any possible issues and signals for needed aid and assistance and will make apparent when a provider does not or cannot report that there is an issue with their system or reporting capabilities. APCO International agrees that “improving the information in these important systems will be helpful for situational awareness and ongoing efforts to improve network resiliency.” Public Knowledge stresses the importance of “better, timelier, and more detailed outage and service-quality reporting to ensure accountability [and] . . . needs to make this data available to the public in a way that balances the twin imperatives of transparency and information security.” We agree that mandating reporting in DIRS will improve situational awareness through daily status updates during emergencies and serve the public interest by providing vital information regarding the operational status of communications networks the Commission and emergency response entities need to effectively manage communications needs during and after disasters occur.

Mandating DIRS is especially important in today's disaster climate as the quantity of disasters has increased since DIRS was first formulated. 2023 was recorded as the worst year on record for billion-dollar weather and climate disasters, passing the National Oceanic and Atmospheric Administration's (NOAA) prior record of 22 events in 2020 within the first eight months of 2023. DIRS data associated with an impacted area is of particular importance, since it provides a preliminary understanding of both the impact and scope of damages, enables the optimization of the allocation, prioritization, and deployment of response and restoration personnel and resources. Further, the analysis of DIRS data enables the identification of reliability trends and challenges associated with infrastructure in rural, underserved, and underprivileged communities. In addition, given the rise in the utilization of communications infrastructure by emergency response officials as a tool for alerting both through WEA and through more established Emergency Alert System (EAS) channels, as well as the advent of Next-Generation 911 and text-to-911, the need for relevant and comprehensive information related to the availability of the infrastructure for communication from and with the public provides added urgency for the reformation of our information collection efforts in the DIRS context in particular.

While commenters argue that reporting in this context is a burden particularly for small entities, we disagree with those who surmise that mandating participation in DIRS will be unduly burdensome for subject providers and that the benefits of such reporting and information garnered do not outweigh the detriments, especially in the matter of preserving life and public safety. For example, NCTA says that “[w]hile outreach to customers during emergencies is vital, `prescriptive requirements for specific modes of communication or unrealistic levels of precision and detail—as proposed by some in the record—are impractical under emergency conditions and would divert limited resources away from maintenance and restoration of service.” Commenters making such assertions opposing mandatory DIRS reporting, however, fail to adequately counter the benefits it will provide, and overlook the efficiencies associated with the proposal. While opposing commenters identify some burdens associated with filing in DIRS, they fail to take into account that providers would benefit from a simultaneous reduction of burdens due to the waiver of NORS filing requirements that we codify below. For instance, under NORS, a provider may have to file multiple reports for outages across a geographic area (even within counties for areas like cities and towns) dependent on the number of components involved. Under DIRS, while providers are filing daily, they are submitting DIRS reports for the entirety of the affected area. Further, the DIRS reporting content is less burdensome than NORS in terms of requirements. We agree with Free Press' observation that the Commission can also manage burdens as it has the authority to waive mandatory DIRS requirements on a case-by-case basis where appropriate, such as for extraordinary circumstances. In this respect, non-filing due to such circumstances will be examined on a case-by-case basis. In those instances where extraordinary circumstances prevent filing due to operational limitations, providers should: (1) use the Operations Center or otherwise notify the Commission if they are unable to file; and (2) make a filing as soon as they are capable, but no later than the final report due upon deactivation of DIRS, described below.

We also disagree with NTCA's contention that DIRS reports may not be useful because there are other avenues, including through the work of the DHS-NCC, for emergency managers and first responders to obtain real-time situational awareness information. NCTA's similar argument that mandating DIRS filings is not warranted because it does not result in active participation by stakeholders at the state and local level is also unpersuasive. First, the systematic, mandatory collection of information in DIRS would not overlap with other Federal, state, local, Tribal, and territorial government efforts, and this non-duplicative information would be made available in real-time to both DHS and other participating public safety entities pursuant to the Commission's information sharing rules to further enhance their efforts (The mandated collection of information associated with DIRS would be non-duplicative and lacking in overlap with state, local, Tribal, and territorial governments as the information they receive comes from the Department of Homeland Security (DHS) and its Emergency Support Function #2 (ESF-2) and/or its state public utility system. Local response officials would be lacking this information unless a state or local entity has a relationship with a specific carrier, which is not common.). Such information could also be available to local entities through permitted downstream sharing (The Commission's rules allow Participating Agencies to share NORS and DIRS information with first responders, emergency communications centers, and other local government agencies who play a vital public safety role during crises and have a need to know this information (Downstream Agencies).), and is shared with the public on an aggregated basis via communications status reports published daily by the Commission when DIRS is activated, providing valuable public information on available avenues for communications during emergencies. Additionally, mandating reporting in DIRS for all subject providers would ensure full participation of service providers in each affected area and therefore present the Commission and other entities with a comprehensive insight as to infrastructure status and reporting capabilities of such entities through regular updates. The contentions of NTCA and NCTA are contradicted by a significant factual record identified in the 2021 Resilient Networks NPRM and in the Commission's Disaster Communications Fall 2021 Field Hearing. As Public Knowledge underscores, the importance of information regarding the status of communications networks during and after disasters, especially in providing real-time updates and emergency alerts to the public as well as to emergency response personnel, is critical, particularly as it provides more geographically and infrastructure-specific information to those affected by outages.

We also reject the assertions of ACA Connects and NTCA that the burden for small providers with limited resources is too substantial to justify mandatory reporting, particularly in the midst of the need to effectuate repairs. Small providers, including many recipients of Universal Service Funds (USF), are often a crucial link for alerting and 911 in rural and underserved communities. The lack of visibility into the operational status of these networks when disaster response officials are performing vital tasks like determining how to effectuate outreach to communities that may involve evacuation instructions, shelter in place, or other emergency directives does a significant disservice to these populations, and may place them at increased risk. While timely restoration is crucially important, the minimal time and burden associated with notifying the Commission of infrastructure status is necessary to ensure timely emergency response activity. Moreover, we clarify that submissions made in DIRS under the rule adopted in the Order shall be based on information known by the provider at the time. We further recognize that in circumstances where DIRS is activated subject providers are necessarily operating in a disaster environment, and that submissions must be provided with a reasonable basis for believing the information therein is accurate. In those instances where extraordinary circumstances prevent filing due to operational limitations, providers should: (1) use the FCC Operations Center or otherwise notify the Commission if they are unable to file; and (2) make a filing as soon as they are capable, but no later than the final report due upon deactivation of DIRS, described herein.

It has been sixteen years since the Commission launched DIRS, and the time is ripe to take steps to improve the efficacy of the system. While the National Association of Broadcasters (NAB) argues that nothing has changed since the Commission's 2007 determination that a voluntary process for DIRS reporting proved adaptable to the unique circumstances of various crises, we disagree. The state of natural disasters, frequencies of emergencies, and the emergence of advanced technology has changed remarkably over the last almost two decades. The evolution of alerting through the advent of WEA, the associated implementation of FEMA's Integrated Public Alert and Warning System (IPAWS) gateway for the dissemination of WEAs and EAS alerts, as well as the launch of the Commission's own information sharing program for NORS and DIRS have altered the regulatory landscape as well. NAB's position similarly fails to consider the results of a Government Accountability Office (GAO) report noting a sharp increase in the number of wireless outages attributed to a physical incidents, and its recommendation that the Commission improve its monitoring of industry efforts to strengthen wireless network resilience, as well as the Commission's own previous determinations, as a result of inquiries and investigations of the infrastructure status and capabilities of providers during and after disasters, that there is a need for a more comprehensive monitoring of situational awareness information. Like the recently adopted Mandatory Disaster Response Initiative (MDRI), DIRS is another valuable tool that can aid the Commission in its resiliency and restoration efforts. While the MDRI focuses on improving the resiliency and reliability of mobile wireless networks before, during, and after emergencies, DIRS provides the means to identify where the reparation, replacement, and restoration of communications infrastructure is vital.

DIRS also provides important information regarding which and how many Public Safety Answering Points (PSAPs) are unable to receive incoming emergency information from consumers in need. In regard to PSAPs, while NORS and DIRS serve similar purposes (reporting network outages), they collect different types of data. PSAP impact data is specifically collected by DIRS and not NORS. Once DIRS is activated, the Commission gets more fidelity as to PSAP status that it would not ordinarily get if only NORS were utilized, as no PSAP-specific information is collected in NORS at all. DIRS further provides information such as how many cell sites have been affected, where damaged power infrastructure is impacting communications, and other status information. Rather than waiting for the next emergency—be it natural or man-made—to strike and remind us, again, of the importance of comprehensive situational awareness to ensure the public safety and expedite the restoration of communications, we are relying on our experience and the record before us to adopt mandatory DIRS requirements now.

In considering the scope of reporting entities, we limit our determination at this time to cable communications, wireless, wireline, and interconnected VoIP providers. In this respect, we find that the record supports adoption of mandatory DIRS reporting for these providers because this group of providers should already have information like points of contact, roaming agreements, coordination and response plans, and restoration plans of action in place due to the general course of business. This was echoed in the record by Public Knowledge. Wireless providers especially should already have these ideals for resiliency and restoration in place given the 2016 Wireless Network Resiliency Cooperative Framework that has recently been mandated as the MDRI, which requires wireless providers to establish and share with the Commission (upon request) elements like roaming arrangements and mutual aid agreements. However, we note the concerns raised by satellite (DBS and SDARS) and broadcast (television and radio) providers seeking to differentiate their services in terms of impact to their specific technology in disaster contexts, operational restrictions, and the types of information that is likely relevant for disaster response relative to these particular services that may impact the specific data needs to be collected from these entities. For example, certain types of technology, like satellite, may have limited terrestrial components impacted by a disaster such that a more nuanced approach for outage reporting may be appropriate. In this respect, we also note that these services, while crucial to distribute information during disasters, may not serve the same function as the other services for which we require DIRS reporting today—namely, the use by consumers to seek help by communicating with emergency responders and loved ones. The Satellite Industry Association (SIA) requests more detail regarding proposals for mandatory DIRS reporting for that sector, and NAB raises arguments about the burdens of reporting, especially for smaller broadcasters who experience disruptions in the services they provide as well as underlying telephone, internet, or power services on which broadcasters rely to provide service. Further, these emergencies and “disasters often lead to power outages and the loss of telephone and internet access, making it difficult if not impossible for smaller stations without a corporate support infrastructure to file a DIRS report.” To build a more complete record about the impact of our proposals on the satellite and broadcast sectors, we seek further comment pertaining to satellite and broadcast, as well as broadband, providers whose comments share different concerns and views than the subject providers included under the Order, in the Second FNPRM.

By mandating DIRS reporting for subject providers, we expect that there will be an increase in both the volume and clarity of situational awareness information collected, and the Commission will be able to share this information with Federal, state, Tribal, and territorial partners. Additional DIRS information will be helpful during disaster events and can help improve public safety planning and response efforts. DIRS provides decision-making public safety officials and emergency managers with an invaluable tool for assessing where communications services and infrastructure are impacted by disasters, as well as insights into the speed and scope of communications restoration. Particularly, DIRS information is a key performance indicator and serves as a primary input to the FEMA Lifelines report and Senior Leaders Interagency Briefings, which enables decision makers to concentrate their personnel and resources on areas presumed to have been impacted the hardest. Requiring this information to be reported by subject providers will assist with general situational awareness, the deployment of disaster and recovery logistics, and applications of infrastructure grants and insurance claims.

Confidentiality. Several commenters raise concerns regarding the protection of information that entities would be providing in DIRS on a mandatory basis. For instance, NCTA urges the Commission to maintain its presumption of confidentiality for DIRS information submitted by subject providers, while the California Public Utilities Commission (CPUC) alternatively argues that “it is critical for people to acquire as much information about outages, disasters, and service restoration efforts before relocating to another, presumably safer location.” Public Knowledge similarly argues that public disclosure of outage information would enhance market incentives to provide more reliable service. While we shift from voluntary to mandatory reporting, we find no compelling reason at this time to alter the existing presumption of confidentiality for any reporting information received merely by virtue of this change, and decline to amend that presumption here. The Commission acknowledges that the CPUC filed a Petition for Reconsideration in regard to information sharing. The determination here discussing confidentiality and the treatment of information is not a pre-judgment of the Petition in that context. Particularly in the DIRS context, we note that public disclosures are already made on an aggregated basis, providing a level of transparency to consumers to effectuate the primary purpose of DIRS—the collection and dissemination of disaster-specific outage impact information. While driving the market to more reliability is an important goal, we do not find that disclosure in this context is appropriate at this time.

B. Codifying the NORS Reporting Waiver When DIRS Is Activated

In the 2021 Resilient Networks NPRM, the Commission sought comment on whether to codify the Commission's typical practice of granting subject providers a waiver of their NORS reporting requirements when they report in DIRS. Under the Commission's current voluntary DIRS reporting approach, the Bureau typically waives NORS reporting obligations for subject providers who elect to report in DIRS for the duration of its activation period. This decision is announced through the release by the Commission of a formal notice on an activation-by-activation basis. The Bureau has routinely issued this sua sponte waiver when DIRS has been activated and has found success with this approach. In the Order, we adopt this proposal and give it effect by revising the Commission's part 4 rules to suspend all NORS reporting obligations pertaining to outages that arise when DIRS reporting is activated and outages are timely reported in DIRS. 47 CFR part 4. More specifically, the Commission will waive NORS filings that would be due while DIRS is activated. Further, and as discussed more below in the following sections, once an outage has been filed under DIRS per the Order, a provider need not file the same outage in NORS.

USTelecom—The Broadband Association (USTelecom), NCTA, and AT&T support this proposal expressly, and no commenters oppose it. Accordingly, we conclude that formally codifying this practice would give providers more clarity on their obligations and both streamline and formalize existing practices with no detrimental impact on the Commission's current public safety efforts. Because of the long and successful practice of granting waivers, the Bureau and the industry should easily transition to this permanent solution. Moreover, the codification of this practice will be beneficial for subject providers as this waiver will reduce burdens for DIRS filers during emergency conditions when the system is activated. As proposed, this shift between reporting mechanisms also mitigates the burden of potentially duplicative reporting for subject providers by only requiring reporting in one system during and after disasters instead of a dual requirement. This will also provide administrative efficiency by eliminating the need for the Bureau to determine and issue waivers on an activation-by-activation basis.

C. Final DIRS Reports Upon Deactivation

In the 2021 Resilient Networks NPRM, the Commission sought comment on how to maintain situational awareness as to the status of providers' services when a provider has not yet fully restored its service at the time that the Commission deactivates DIRS. The 2021 Resilient Networks NPRM asked whether providers with ongoing outages at the time of DIRS being deactivated should be required to report those outages in NORS; the Commission proposed resolving this issue by requiring that subject providers with ongoing outages at the time of DIRS deactivation provide a final report that describes their current infrastructure status at the time the system was deactivated to be submitted within 24 hours of deactivation. This would allow the Commission to see what remains unresolved immediately following deactivation of DIRS, and provide to the Commission an estimate of when the subject provider believes the issue(s) can be resolved. We adopt that proposal here; the final report shall be provided as input to a free form text field in the current DIRS interface, where a subject provider will be able to describe in detail the identity and status of outstanding infrastructure equipment and issues and the estimated dates by which these issues shall be resolved.

Under the Commission's current rules, there may be instances in which DIRS is deactivated but some providers have not yet fully restored service. In these instances, the Commission no longer has situational awareness as to the status of those subject providers' services because updates are no longer being filed in DIRS and the outage would have never been filed in NORS (as the Commission typically suspends NORS reporting obligations for subject providers who elect to report in DIRS, and we adopt that practice in the Order). This has resulted in an information gap where the Commission loses situational awareness of subject providers' status in restoring services after DIRS is deactivated. No commenter directly addresses whether providers with ongoing outages at the time of DIRS deactivation should be required to report those outages in NORS, but AT&T opines that any such report should be provided in DIRS rather than NORS.

We find that a final deactivation report, filed in DIRS within 24 hours of the Commission deactivating DIRS, will close a significant gap that currently occurs at the conclusion of the DIRS reporting period, and therefore adopt such a reporting requirement. Bridging this informational divide will also enable Commission staff to conduct follow-up inquiries on an as-needed basis based on the information gathered, increase provider accountability, and provide needed opportunities for analysis associated with recovery. While this minor additional filing to close out issues presented though the course of a DIRS activation is only a minimal burden, we find the minor burden outweighed by the anticipated benefits and efficiencies associated with more directed staff engagement with incident resolution. We also find that this close-out report obviates the need for any additional filings in NORS as related to the same outage and clarify that once an outage is filed in DIRS, the event need not be filed in NORS.

We also agree with AT&T that it would be most effective for providers to supply a final report in DIRS since the report relates to a provider's previous filings in DIRS. Moreover, filing such reports in DIRS will promote efficiency and reduce confusion, both for those who file reports and for those who review them. This would include subject providers, participating entities who take part in the Commission's NORS and DIRS information sharing program, and Commission staff. Final reports will promote clarity by continuing to associate such reports with the initiating incident in the same system.

While the 2021 Resilient Networks NPRM did not posit a specific implementation for the reporting format, and no commenter proposed a specific implementation, we clarify here that the report should be completed by filling in a free form text field in DIRS where a subject provider shall provide, in a text field, a short summary of the identity and status of its outstanding infrastructure equipment and estimated dates by which any and all issues will be resolved. This format will allow maximum flexibility for subject providers to include effective descriptions to the Commission given the wide range of issue types and related circumstances that may occur in the aftermath of DIRS activation. We require, however, that a part of that free form input include estimated resolution dates, which will both create accountability on the part of providers and allow the Commission staff to promptly and effectively follow-up with the providers as necessary.

D. Cost-Benefit Analysis

In the 2021 Resilient Networks NPRM, the Commission generally sought information on the costs and benefits specific to promoting situational awareness during disasters, noting that “a proposed requirement to file in DIRS must be balanced against additional burdens on providers, particularly as DIRS reports are filed in the midst of disasters and other emergencies.” The Commission asked commenters to explore the costs and benefits associated with mandatory reporting, but the record was lacking in response to this request. However, ACA Connects states that the Commission “should not adopt any requirements to participate in DIRS without undertaking a cost-benefit analysis that addresses such questions when it comes to considering mandatory reporting for smaller providers.”

We are cognizant of the fact that, as a general matter, it is impossible to assign precise dollar values to the improvement in public safety, life and health resulting from changes to the DIRS reporting requirements. Nevertheless, we believe that these proposals will result in benefits in terms of lives saved and injuries and property damages prevented. Expanded reporting will improve situational awareness of outages during disasters and aid in emergency response and recovery coordination. Improved information on outages makes communications options clearer for the individual responding in disasters. Improved data on outages can also help the government hold providers accountable for failures to timely respond to outages. Data collected can help with future disasters through improved planning for support and mitigation strategies. According to NOAA, natural disasters have caused annually in excess of $118 billion in economic damages and 564 deaths for the last 10 years. We believe that the mandatory DIRS filing obligation will result in a reduction of these harms to a degree that results in a significant social and public safety benefit.

In considering the costs associated with a mandatory DIRS filing obligation, we expect that subject providers will enter emergency contact information and critical information as necessary (i.e., related to infrastructure damage and restoration) in DIRS. Responses, and DIRS reports generally, will differ and appear unique for each emergency or disaster due to differing events, geographic areas (e.g., a network covers several affected counties and submits one DIRS report for each county), and varieties of service provided. We estimate that the average cost of the mandatory DIRS reporting for cable communications, wireless, wireline, and interconnected VoIP providers is less than $1.6 million per year. We do not account for the cost arising from assessing the network availability during DIRS activations because, as part of normal business operations, service providers would have made these assessments without the reporting requirement when a disaster strikes. As a result, the assessment cost is not considered separately in the cost estimate. The cost estimate of $1.6 million is likely an overestimate because it includes service providers that are currently voluntarily participating and already incurring the reporting costs without the changes in rules for mandated subject providers.

While it would be impossible to quantify the precise financial value of these health and safety benefits, we believe that the value of these benefits will significantly outweigh the annual cost of $1.6 million. In light of the record reflecting large benefits to communications providers, agencies, and other industry stakeholders, we find that the total incremental costs imposed on the nation's subject providers by these new requirements will be minimal in many instances and, even when significant, will be far outweighed by the nationwide benefits. While DIRS provides vital information pertaining to infrastructure status, it can only be beneficial if as many providers as possible participate in reporting. This level of participation has yet to be achieved in a voluntary reporting state, causing the need to transition to mandatory reporting.

E. Timelines for Compliance

We set a single date for compliance by all subject providers for implementing these rules at the later of 30 days after the FCC publishes notice in the Federal Register that the OMB has completed its review of Paperwork Reduction Act requirements, November 30, 2024. The Commission has selected November 30, 2024, as the effective date for mandated DIRS reporting to go into effect as this gives subject providers a number of months to comply and ensures that mandated DIRS reporting is in place for the entirety of the 2025 hurricane season (based on the 2023 current hurricane season that runs from June 1, 2023, to November 30, 2023). We anticipate that by November 2024 new filers will have sufficient time to prepare for filing and the Commission will be able to make any changes required in the DIRS system. This date will also provide reasonable assurance that any necessary transitions do not occur during the height of hurricane season, which typically ends by late November.

We also find that subject providers will require only a modest amount of time to adjust their processes to comply with these rules because, as noted above, many subject providers already voluntarily report in DIRS or have similar reporting or recording practices for disasters in place. We believe that the compliance timing provided grants sufficient time for subject providers, including small entities, to implement any changes to their reporting methods and work with Bureau staff to resolve any concerns about the DIRS reporting process.

Once the compliance date has been established, we will require that cable communications, wireless, wireline, and interconnected VoIP subject providers report their infrastructure status information in DIRS whenever the Commission activates DIRS in geographic areas where such entities provide service. To resolve previous ambiguity as to whether a subject provider was failing to report because (1) its network infrastructure remained fully operational; (2) the entity was unable to file; or (3) the entity cannot access DIRS due to disruption of its internet access or other exigencies, the Commission requires entities to file reports on a daily basis until the Commission has deactivated DIRS. In this respect, non-filing due to such circumstances will be examined on a case-by-case basis. In those instances where extraordinary circumstances prevent filing due to operational limitations, providers should: (1) use the Operations Center or otherwise notify the Commission if they are unable to file; and (2) make a filing as soon as they are capable, but no later than the final report due upon deactivation of DIRS.

List of Subjects in 47 CFR Part 4

Communications equipment, Reporting and recordkeeping requirements, Telecommunications.

Federal Communications Commission.
Marlene Dortch,
Secretary.

Final Rules

For the reasons discussed in the preamble, the Federal Communications Commission amends 47 part 4 as follows:

PART 4—DISRUPTIONS TO COMMUNICATIONS

1. The authority citation for part 4 continues to read as follows:

Authority: 47 U.S.C. 34-39, 151, 154, 155, 157, 201, 251, 307, 316, 615a-1, 1302(a), and 1302(b); 5 U.S.C. 301, and Executive Order no. 10530.

2. Add § 4.18 to read as follows:

§ 4.18 Mandatory Disaster Information Reporting System (DIRS) reporting for Cable Communications, Wireless, Wireline, and VoIP providers.

(a) Cable Communications, Wireline, Wireless, and Interconnected VoIP providers shall be required to report their infrastructure status information each day in the Disaster Information Reporting System (DIRS) when the Commission activates DIRS in geographic areas in which they provide service, even when their reportable infrastructure has not changed compared to the prior day. Cable Communications, Wireless, Wireline and Interconnected VoIP providers are subject to mandated reporting in DIRS and shall:

(1) Provide daily reports on their infrastructure status from the start of DIRS activation until DIRS has been deactivated.

(2) Provide a single, final report to the Commission within 24 hours of the Commission's deactivation of DIRS and the termination of required daily reporting, detailing the state of their infrastructure at the time of DIRS deactivation and an estimated date of resolution of any remaining outages.

(b) Cable Communications, Wireline, Wireless, and Interconnected VoIP providers who provide a DIRS report pursuant to paragraph (a) of this section are not required to make submissions in the Network Outage Reporting System (NORS) under this chapter pertaining to any incidents arising during the DIRS activation and that are timely reported in DIRS. Subject providers shall be notified that DIRS is activated and deactivated pursuant to Public Notice from the Commission and/or the Public Safety and Homeland Security Bureau.

(c) This section may contain information collection and/or recordkeeping requirements. Compliance with this section will not be required until this paragraph (c) is removed or contains compliance dates.

[FR Doc. 2024-07402 Filed 4-10-24; 8:45 am]

BILLING CODE 6712-01-P